DEPARTMENT OF COMMERCE

National Oceanic and Atmospheric Administration

RIN 0648-XC299

Fisheries of the South Atlantic; South Atlantic Fishery Management Council; Public Meeting

AGENCY: National Marine Fisheries Service (NMFS), National Oceanic and Atmospheric Administration (NOAA), Commerce

ACTION: Notice of a public meeting.

SUMMARY: The South Atlantic Fishery Management Council (Council) will hold a meeting of its Habitat and Environmental Protection Advisory Panel (AP) in Charleston, SC.

DATES: The meeting will take place November 14-15, 2012. See SUPPLEMENTARY INFORMATION for specific dates and times.

ADDRESSES: The meeting will be held at the Doubletree by Hilton Guest Suites, 181 Church Street, Charleston, SC 29401; telephone: (800) 222-8733; fax: (843) 577-2697.

FOR FURTHER INFORMATION CONTACT: Kim Iverson, Public Information Officer, South Atlantic Fishery Management Council, 4055 Faber Place Drive, Suite 201, N. Charleston, SC 29405; telephone: (843) 571-4366 or toll free: (866) SAFMC-10; fax: (843) 769-4520; email: kim.iverson@safmc.net.

SUPPLEMENTARY INFORMATION: Members of the Habitat and Environmental Protection AP will meet from 8:30 a.m. until 4:30 p.m. on November 14, 2012 and from 8:30 a.m. until 12 noon on November 15, 2012. Topics to be addressed at the meeting include: a member workshop on developing the South Atlantic Habitat and Ecosystem Atlas and Digital Dashboard, including the new online Ecospecies System; species research and habitat mapping associated with deepwater marine protected areas; deepwater habitat complexes associated with Coral Habitat Areas of Particular Concern (CHAPC) extension proposals; a review of a draft Memorandum of Understanding (MoU) between Atlantic Councils on deepwater coral ecosystem conservation; a review of other regional partner activities supporting the regional move to ecosystem-based management; and consideration of updates to essential fish habitat policy statements as needed. The AP will provide recommendations to the Council and address other business as needed.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for auxiliary aids should be directed to the Council office (see ADDRESSES) 3 days prior to the meeting.

Note: The times and sequence specified in this agenda are subject to change.

Dated: October 24, 2012.
Tracey L. Thompson,
Acting Deputy Director, Office of Sustainable Fisheries, National Marine Fisheries Service.

[FR Doc. 2012-26484 Filed 10-26-12; 8:45 am]

BILLING CODE 3510-22-P